DEPARTMENT OF TRANSPORTATION

Federal Aviation Administration

Cancellation of Preparation of Environmental Impact Statement for Ontario International Airport, Ontario, San Bernardino County, CA

AGENCY: Federal Aviation Administration, DOT.

ACTION: Notice of cancellation of preparation of Environmental Impact Statement.

SUMMARY: The Federal Aviation Administration (FAA) announces that it has decided to discontinue preparation of an Environmental Impact Statement (EIS) for master plan improvements to Ontario International Airport, Ontario, California. The FAA's decision to discontinue preparation of the EIS is based upon the decision by Los Angeles World Airports, the owner of the airport, to discontinue pursuit of the master plan for Ontario International Airport at this time.

FOR FURTHER INFORMATION CONTACT: Victor Globa, Environmental Protection Specialist, Federal Aviation Administration, Los Angeles Airports District Office, P.O. Box 92007, Los Angeles, California 90009-2007, Telephone: (310) 725-3637.

SUPPLEMENTARY INFORMATION: On June 9, 2004, the Federal Aviation Administration (FAA) issued a Notice of intent to prepare an Environmental Impact Statement for future development at Ontario International Airport, Ontario, California in the Federal Register (69 FR 32394-32396). The need to prepare an Environmental Impact Statement (EIS) was based on the procedures described in FAA Order 1050.1E, Environmental Impacts: Policies and Procedures. The need to prepare a federal EIS was primarily based on Los Angeles World Airports Draft Master Plan for Ontario that included the proposed relocation and increased separation of the runways, new taxiway, additional terminals, aircraft gates, and expansion and/or relocation of parking lots, access roads, ground transportation center, airport maintenance area, administrative facility and aircraft rescue and firefighting facility. Los Angeles World Airports, as the owner and operator of Ontario international Airport has notified the FAA of their decision to discontinue pursuit of the draft master plan at this time. If and when Los Angeles World Airports decides to resume preparation of a Master Plan, the FAA will evaluate the proposed improvements to ensure compliance with the National Environmental Policy Act of 1969, as amended.

Issued in Hawthorne, California on December 1, 2006.
Mark A. McClardy,
Manager, Airports Division, Western-Pacific Region, AWP-600.

[FR Doc. 06-9626 Filed 12-11-06; 8:45 am]

BILLING CODE 4910-13-M